DEPARTMENT OF COMMERCE

International Trade Administration

[A-570-954]

Certain Magnesia Carbon Bricks from the People's Republic of China: Amended Preliminary Determination of Sales at Less Than Fair Value

AGENCY: Import Administration, International Trade Administration, Department of Commerce.

EFFECTIVE DATE: April 21, 2010.

SUMMARY: On March 12, 2010, the Department of Commerce (“Department”) published the Preliminary Determination of sales at less than fair value (“LTFV”) in the antidumping duty investigation of certain magnesia carbon bricks (“bricks”) from the People's Republic of China (“PRC”). See Certain Magnesia Carbon Bricks from the People's Republic of China: Preliminary Determination of Sales at Less Than Fair Value and Postponement of Final Determination, 75 FR 11847 (March 12, 2010) (“Preliminary Determination”). We are amending our Preliminary Determination to correct certain ministerial errors with respect to the antidumping duty margin calculation for RHI Refractories Liaoning Co., Ltd. (“RHI”). The corrections to the RHI margin also affect the margin assigned to the companies receiving a separate rate and the PRC-wide rate. In addition, we have granted a separate rate to Yingkou Jiahe Refractories Co., Ltd. (“Jiahe”).

FOR FURTHER INFORMATION CONTACT: Paul Walker, AD/CVD Operations, Office 9, Import Administration, International Trade Administration, U.S. Department of Commerce, 14th Street and Constitution Avenue, NW, Washington, DC, 20230; telephone: (202) 482-0413.

SUPPLEMENTARY INFORMATION: As noted above, on March 12, 2010, the Department published in the Federal Register the Preliminary Determination that bricks from the PRC are being, or are likely to be, sold in the United States at LTFV, as provided in section 733 of the Tariff Act of 1930, as amended (“Act”). See Preliminary Determination.

On March 12, 2010, RHI, Dalian Mayerton Refractories Co., Ltd. and Liaoning Mayerton Refractories Co., Ltd. (collectively, “Mayerton”), Jiahe, and Resco Products, Inc. (“Petitioner”), filed timely allegations of ministerial errors contained in the Department's Preliminary Determination. After reviewing the allegations, we have determined that the Preliminary Determination included significant ministerial errors. Therefore, in accordance with 19 CFR 351.224(e), we have made changes, as described below, to the Preliminary Determination.

Period of Investigation

The period of investigation (“POI”) is January 1, 2009, through June 30, 2009. See 19 CFR 351.204(b)(1).

Scope of Investigation

Imports covered by this investigation consist of certain chemically bonded (resin or pitch), magnesia carbon bricks with a magnesia component of at least 70 percent magnesia (“MgO”) by weight, regardless of the source of raw materials for the MgO, with carbon levels ranging from trace amounts to 30 percent by weight, regardless of enhancements, (for example, magnesia carbon bricks can be enhanced with coating, grinding, tar impregnation or coking, high temperature heat treatments, anti-slip treatments or metal casing) and regardless of whether or not anti-oxidants are present (for example, anti-oxidants can be added to the mix from trace amounts to 15 percent by weight as various metals, metal alloys, and metal carbides). Certain magnesia carbon bricks that are the subject of this investigation are currently classifiable under subheadings 6902.10.1000, 6902.10.5000, 6815.91.0000, and 6815.99 of the Harmonized Tariff Schedule of the United States (“HTSUS”). While HTSUS subheadings are provided for convenience and customs purposes, the written description is dispositive.

Significant Ministerial Error

Pursuant to 19 CFR 351.224(e) and (g)(1), the Department is amending the Preliminary Determination to reflect the correction of significant ministerial errors it made in the margin calculations regarding RHI, and Jiahe, a separate rate applicant. In accordance with 19 CFR 351.224(e), we are correcting significant ministerial errors in the Preliminary Determination. A ministerial error is defined as errors in addition, subtraction, or other arithmetic function, clerical error resulting from inaccurate copying, duplication, or the like, and any other similar type of unintentional error which the Secretary considers ministerial. See section 735(e) of the Act. A significant ministerial error is defined as a ministerial error, the correction of which, singly or in combination with other errors, would result in (1) a change of at least five absolute percentage points in, but not less than 25 percent of, the weighted-average dumping margin calculated in the original (erroneous) preliminary determination, or (2) a difference between a weighted-average dumping margin of zero or de minimis and a weighted-average dumping margin of greater than de minimis or vice versa. See 19 CFR 351.224(g). As a result of this amended preliminary determination, we have revised the antidumping rate for RHI and added Jiahe to the list of exporters that received a separate rate. In addition, we have revised the separate rate based on RHI's revised dumping margin. See the “Amended Preliminary Determination” section below. Moreover, we have revised the PRC-wide rate based on RHI's revised dumping margin. Id.; see also Memorandum to the File, through Scot T. Fullerton, Program Manager, Office 9, from Paul Walker, Case Analyst, “Investigation of Magnesia Carbon Bricks from the People's Republic of China: Corroboration of the PRC-wide Rate for the Amended Preliminary Determination,” dated concurrently with this notice.

Ministerial Error Allegations

On March 12, 2010, Jiahe, a separate rate applicant, submitted a ministerial error allegation claiming that the Department did not name it in the Preliminary Determination as one of the exporters receiving a separate rate. On March 12, 2010, Mayerton and RHI submitted ministerial error allegations with respect to their preliminary margin calculations, relating to certain conversion errors and movement expenses. On March 18, 2010, the Petitioner submitted rebuttal comments to RHI's ministerial error allegations. The Department has reviewed its preliminary calculations and agrees that certain errors which the parties alleged are significant ministerial errors within the meaning of 19 CFR 351.224(g). See Memorandum to James Doyle, Office Director, Office 9, through Scot T. Fullerton, Program Manager, Office 9, from Paul Walker, Senior Case Analyst, “Investigation of Magnesia Carbon Bricks from the People's Republic of China: Ministerial Error Memorandum,” dated concurrently with this notice, for a discussion of the ministerial error allegations. See Appendix I for a list of the ministerial error allegations.

The collection of bonds or cash deposits and suspension of liquidation will be revised accordingly and parties will be notified of this determination, in accordance with section 733(d) and (f) of the Act.

Amended Preliminary Determination

As a result of our correction of significant ministerial errors in the Preliminary Determination, we have determined that the following weighted-average dumping margins apply:

Exporter | Producer | Weighted-Average Margin
RHI Refractories Liaoning Co., Ltd. | RHI Refractories Liaoning Co., Ltd. | 129.17
Liaoning Mayerton Refractories Co., Ltd. | Liaoning Mayerton Refractories Co., Ltd. | 132.74
Dalian Mayerton Refractories Co., Ltd. | Dalian Mayerton Refractories Co., Ltd. | 132.74
Dashiqiao City Guancheng Refractor Co., Ltd. | Dashiqiao City Guancheng Refractor Co., Ltd. | 130.96
Fengchi Imp. And Exp. Co., Ltd. Of Haicheng City | Fengchi Refractories Co., of Haicheng City | 130.96
Jiangsu Sujia Group New Materials Co. Ltd. | Jiangsu Sujia Group New Materials Co. Ltd. | 130.96
Liaoning Fucheng Refractories Group Co., Ltd. | Liaoning Fucheng Refractories Group Co., Ltd. | 130.96
Liaoning Fucheng Special Refractory Co., Ltd. | Liaoning Fucheng Special Refractory Co., Ltd. | 130.96
Liaoning Jiayi Metals & Minerals Co., Ltd. | Liaoning Jiayi Metals & Minerals Co., Ltd. | 130.96
Yingkou Bayuquan Refractories Co., Ltd. | Yingkou Bayuquan Refractories Co., Ltd. | 130.96
Yingkou Dalmond Refractories Co., Ltd. | Yingkou Dalmond Refractories Co., Ltd. | 130.96
Yingkou Guangyang Co., Ltd. | Yingkou Guangyang Co., Ltd. | 130.96
Yingkou Jiahe Refractories Co., Ltd. | Yingkou Jiahe Refractories Co., Ltd. | 130.96
Yingkou Kyushu Refractories Co, Ltd. | Yingkou Kyushu Refractories Co, Ltd. | 130.96
Yingkou New Century Refractories Ltd. | Yingkou New Century Refractories Ltd. | 130.96
Yingkou Wonjin Refractory Material Co., Ltd. | Yingkou Wonjin Refractory Material Co., Ltd. | 130.96
PRC-wide Entity |  | 236.00

International Trade Commission Notification

In accordance with section 733(f) of the Act, we have notified the International Trade Commission (“ITC”) of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: April 13, 2010.
Ronald K. Lorentzen,
Deputy Assistant Secretary for Import Administration.

Appendix I

Issue 1: Factor of Production Conversions

Issue 2: Foreign Inland Movement Expenses

Issue 3: Separate Rate Application of Yingkou Jiahe Refractories Co., Ltd.

[FR Doc. 2010-9186 Filed 4-20-10; 8:45 am]

BILLING CODE 3510-DS-S